INTERNATIONAL TRADE COMMISSION

[Investigation No. 731-TA-1149 (Final)]

Circular Welded Carbon Quality Steel Line Pipe From China

Determination

On the basis of the record ¹ developed in the subject investigation, the United States International Trade Commission (Commission) determines, pursuant to section 735(b) of the Tariff Act of 1930 (19 U.S.C. 1673d(b)) (the Act), that an industry in the United States is materially injured or threatened with material injury by reason of imports from China of circular welded carbon quality steel line pipe from China, provided for in subheadings 7306.19.10 and 7306.19.51 of the Harmonized Tariff Schedule of the United States, that have been found by the Department of Commerce (Commerce) to be sold in the United States at less than fair value (LTFV).²

¹ The record is defined in sec. 207.2(f) of the Commission's Rules of Practice and Procedure (19 CFR 207.2(f)).

² Commissioners Charlotte R. Lane, Irving A. Williamson, and Dean A. Pinkert based their affirmative determinations on findings of present material injury. Chairman Shara L. Aranoff, Vice Chairman Daniel R. Pearson, and Commissioner Deanna Tanner Okun based their affirmative determinations on findings of threat of material injury, and further determined that they would not have found material injury but for the suspension of liquidation.

Background

The Commission instituted this investigation effective April 3, 2008, following receipt of a petition filed with the Commission and Commerce by Maverick Tube Corp. (Houston, TX), Tex-Tube Co. (Houston, TX), U.S. Steel Corp. (Pittsburgh, PA), and the United Steel, Paper and Forestry, Rubber, Manufacturing, Energy, Allied Industrial and Service Workers International Union, AFL-CIO-CLC (Pittsburgh, PA).³ The final phase of the investigation was scheduled by the Commission following notification of a preliminary determination by Commerce that imports of circular welded carbon quality line pipe from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of September 22, 2008 (73 FR 54618) and December 12, 2008 (73 FR 75770). The hearing was held in Washington, DC, on November 24, 2008, and all persons who requested the opportunity were permitted to appear in person or by counsel.

³ On April 4, 2008, Wheatland Tube Co. (Sharon, PA) separately filed an entry of appearance in support of the petition. Counsel for petitioning firm Tex-Tube Co. amended its entry of appearance on October 31, 2008, to include domestic producers Northwest Pipe Co. (Vancouver, WA); Stupp Corp. (Baton Rouge, LA); and TMK IPSCO Tubulars (Lisle, IL); the same counsel amended its entry of appearance again on November 3, 2008, to add domestic producer American Steel Pipe Division of ACIPCO (Birmingham, AL).

The Commission transmitted its determination in this investigation to the Secretary of Commerce on May 6, 2009. The views of the Commission are contained in USITC Publication 4075 (May 2009), entitled Circular Welded Carbon Quality Line Pipe from China: Investigation No. 731-TA-1149 (Final).

By order of the Commission.
Issued: May 6, 2009.
Marilyn R. Abbott,
Secretary to the Commission.

[FR Doc. E9-11045 Filed 5-11-09; 8:45 am]

BILLING CODE 7020-02-P